DEPARTMENT OF EDUCATION

Office of Innovation and Improvement; Overview Information; Transition to Teaching Grant Program; Notice Inviting Applications for New Awards for Fiscal Year (FY) 2004

Catalog of Federal Domestic Assistance (CFDA) Number: 84.350A, 84.350B, and 84.350C.

DATES: Applications Available: April 30, 2004.

Deadline for Notice of Intent to Apply: May 14, 2004.

Deadline for Transmittal of Applications: June 14, 2004.

Deadline for Intergovernmental Review: August 13, 2004.

Eligible Applicants: A State educational agency (SEA); a high-need local educational agency (LEA); a for-profit or nonprofit organization that has a proven record of effectively recruiting and retaining highly qualified teachers, in a partnership with a high-need LEA or an SEA; an institution of higher education, in a partnership with a high-need LEA or an SEA; a regional consortium of SEAs; or a consortium of high-need LEAs.

Estimated Available Funds: $12-$13 million. The Department has established separate funding categories for projects of different scope. These categories are:

(1) National/regional projects (84.350C) that serve eligible high-need LEAs in more than one state;

(2) Statewide projects (84.350B) that serve eligible high-need LEAs statewide or eligible high-need LEAs in more than one area of a state; and

(3) Local projects (84.350A) that serve one eligible high-need LEA or two or more eligible high-need LEAs in a single area of a state.

Estimated Range of Awards: National/regional projects—$300,000-$1,000,000 per year; Statewide projects—$150,000-$600,000 per year; and Local projects—$100,000-$400,000 per year.

Estimated Average Size of Awards: National/regional projects—$750,000 per year; Statewide projects—$375,000 per year; and Local projects—$225,000 per year.

Estimated Number of Awards: National/regional projects—2; Statewide projects—10; and Local projects—20.

Note: The Department is not bound by any estimates in this notice.

Project Period: Up to 60 months.

Full Text of Announcement

I. Funding Opportunity Description

Purpose of Program: The Transition to Teaching program encourages (1) The development and expansion of alternative routes to full State teacher certification, as well as (2) the recruitment and retention of highly qualified mid-career professionals, recent college graduates who have not majored in education, and highly qualified paraprofessionals as teachers in high-need schools operated by high-need LEAs, including charter schools that operate as high-need LEAs.

Priorities: The Department has established three priorities that are explained in the following paragraphs. One priority is from the statute for this program and two priorities are from the notice of final priorities and requirements for this program, published elsewhere in this issue of the Federal Register.

Competitive Preference Priorities: For FY 2004, these priorities are competitive preference priorities. Under 34 CFR 75.105(c)(2)(i), we award 5 additional points to an application that meets Competitive Preference Priority 1, and up to an additional 20 points to an application, depending on how well the application meets either Competitive Preference Priority 2 or 3. These points are in addition to any points the application earns under the program's selection criteria.

These priorities are:

Competitive Preference Priority 1—Partnerships or Consortia That Include a High-Need LEA or a High-Need SEA

In accordance with 34 CFR 75.105(b)(2)(iv), this priority is from section 2313(c) of the Elementary and Secondary Education Act of 1965, as amended (ESEA) (20 U.S.C. 6683(c)). This priority supports projects that are designed and implemented in active partnerships or consortia that include at least one high-need LEA or high-need SEA.

Competitive Preference Priority 2—State Projects to Create or Expand, and Then Implement, Alternative Pathways to Teacher Certification

This priority is from the notice of final priorities and requirements for this program, published elsewhere in this issue of the Federal Register. This priority supports projects designed and implemented by an SEA or a consortium of SEAs and the respective teacher certification agency of each State (if different from the SEA) to create or expand, and then implement, alternative pathways to certification. The project period is up to five years. Grantees will need to conduct both of the following activities:

(a) Create alternatives to the State's traditional certification requirements. In conducting this activity, States are encouraged to develop a variety of alternative pathways to certification as important options in their menu of State-approved procedures for teacher certification and licensure. For example, competency-based alternative routes would permit talented individuals interested in teaching to become fully certified through rigorous assessments of their content and professional teaching competence, thereby enabling LEAs to recruit from a larger and more talented pool of prospective teachers.

(b) Use the alternative routes to recruit individuals from groups eligible to participate in the Transition to Teaching program. Funded projects also would, among other things, need to work with participating high-need LEAs to—

(1) Increase the number and quality of mid-career changers, recent college graduates who have not majored in education, and qualified paraprofessionals recruited to teach high-need subjects (such as mathematics, science, and special education) in identified high-need LEAs (which may include LEAs that are charter schools), particularly those in urban and rural areas; and

(2) Provide these newly hired teachers with the support they need to become certified and effective teachers who will choose to make teaching their new long-term profession.

In particular, SEAs receiving project funds must—

(i) Target recruitment efforts on, and rigorously screen, candidates in areas where participating high-need LEAs have documented teacher shortages (e.g., mathematics, science, and special education);

(ii) Place prospective teachers only in high-need schools operated by high-need LEAs;

(iii) Prepare individuals for specific positions in specific LEAs and place them in these positions early in the training process;

(iv) Ensure that recruited teachers receive the specific training they need to become fully certified or licensed teachers; and

(v) Have recruited teachers participate in a well-supervised induction period that may include the support of experienced, trained mentors.

Note: Applicants that choose to respond to Competitive Preference Priority 2 may do so however they choose. Those that respond to this priority may want to consider addressing such key factors as: (1) The data and other information the State has used to assess how and the extent to which current State certification requirements inhibit talented individuals from entering teaching; (2) the level of commitment of State leaders and policymakers to developing new or enhanced alternative certification requirements; (3) the State's statutory and/or regulatory authority to implement alternative pathways to certification; (4) how the SEA and other participating State agencies will actively involve all stakeholders with responsibility or authority for teacher preparation, hiring, and retention; and (5) a timeline for major actions that the SEA and other participating state agencies intend to implement to develop new or improved alternative pathways to teacher certification.

Competitive Preference Priority 3—District Projects to Streamline Teacher Hiring Systems, Timelines, and Processes

This priority is from the notice of final priorities and requirements, published elsewhere in this issue of the Federal Register. This priority supports projects by one or more LEAs to streamline their hiring systems, timelines, and processes. The project period is up to five years. A participating high-need LEA will need to conduct both of the following activities:

(a) Examine its current hiring system, processes, and policies to identify the critical barriers to hiring highly qualified teachers. The lack of highly qualified teachers in most urban and rural LEAs has often been attributed to their difficulty in recruiting interested and qualified individuals. However, recent research indicates that the problem may not be one of recruitment but may stem from inefficient and untimely LEA hiring systems and processes. This is especially true in high-poverty LEAs and schools—the very LEAs and schools the Transition to Teaching program is targeted to serve. Accordingly, each participating LEA will need to examine its current hiring processes and policies and, based upon that examination, identify the critical barriers to hiring highly qualified teachers.

(b) Design and implement efforts to remove the identified barriers and put in place systems that streamline and revamp the hiring process. In conducting this activity, LEAs are encouraged to create an efficient and timely applicant hiring process with a strong data tracking system and clear hiring goals. These efforts also should involve negotiating policy reforms that remove critical barriers, such as delayed notification of vacancies and seniority and retirement rules.

Participating LEAs also will carry out the requirements of the Transition to Teaching program by recruiting nontraditional candidates, using the streamlined hiring system to hire these individuals for teaching in high-need schools, working with them to achieve full State certification, and retaining them for at least three years.

Note: Applicants that choose to respond to Competitive Preference Priority 3 may do so however they choose. Those that respond to this priority may want to consider addressing such key factors as: (1) The existing barriers to early notification and hiring of new teachers; (2) the active engagement of LEA officials, teacher unions, and other stakeholders in developing a plan to remove existing barriers and implementing changes; (3) the actions each participating LEA intends to undertake to implement policies and systems for early notification and hiring of new teachers; and (4) a timeline for major action steps that each participating LEA intends to implement to develop the new hiring policies and systems.

Program Authority: 20 U.S.C. 6681-6684.

Applicable Regulations: (a) The Education Department General Administrative Regulations (EDGAR) in 34 CFR parts 74, 75, 77, 79, 80, 81, 82, 84, 85, 86, 97, 98 and 99. (b) The notice of final priorities and requirements for this program, published elsewhere in this issue of the Federal Register.

Note: The regulations in 34 CFR part 86 apply to institutions of higher education only.

II. Award Information

Type of Award: Discretionary grants.

Estimated Available Funds: $12-$13 million. The Department has established separate funding categories for projects of a different scope. These categories are:

(1) National/regional projects (84.350C) that serve eligible high-need LEAs in more than one state;

(2) Statewide projects (84.350B) that serve eligible high-need LEAs statewide or eligible high-need LEAs in more than one area of a state; and

(3) Local projects (84.350A) that serve one eligible high-need LEA or two or more eligible high-need LEAs in a single area of a state.

Estimated Range of Awards: National/regional projects—$300,000-$1,000,000 per year; Statewide projects—$150,000-$600,000 per year; and Local projects—$100,000-$400,000 per year.

Estimated Average Size of Awards: National/regional projects—$750,000 per year; Statewide projects—$375,000 per year; and Local projects—$225,000 per year.

Estimated Number of Awards: National/regional projects—2; Statewide projects—10; and Local projects—20.

Note: The Department is not bound by any estimates in this notice.

Project Period: Up to 60 months.

III. Eligibility Information

1. Eligible Applicants: An SEA; a high-need LEA; a for-profit or nonprofit organization that has a proven record of effectively recruiting and retaining highly qualified teachers, in a partnership with a high-need LEA or an SEA; an institution of higher education, in a partnership with a high-need LEA or an SEA; a regional consortium of SEAs; or a consortium of high-need LEAs. Each application must identify participating LEAs that meet the definition of “high-need” in section 2102(3) of the ESEA. Applicants also should refer to the notice of final priorities and requirements, published elsewhere in this issue of the Federal Register, for further information, including definitions, regarding eligibility.

2. Cost Sharing or Matching: This program does not involve cost sharing or matching but does involve supplement-not-supplant funding provisions. In accordance with section 2313(h)(2) of the ESEA, funds made available under this section shall be used to supplement, and not supplant, State and local public funds expended for teacher recruitment and retention programs, including programs to recruit the teachers through alternative routes to certification.

3. Other: The notice of final priorities and requirements for this program, published elsewhere in this issue of the Federal Register, describes eligibility restrictions for individuals participating in this program.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA number 84.350A, 84.350B, or 84.350C.

Individuals with disabilities may obtain a copy of the application package in an alternative format (e.g., Braille, large print, audiotape, or computer diskette) by contacting the program contact person listed under For Further Information Contact elsewhere in this notice.

2. Content and Form of Application Submission: Requirements concerning the content of an application, together with the forms you must submit, are in the application package for this program.

Notice of Intent to Apply: May 14, 2004.

The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. The Secretary requests that this e-mail notification be sent to Thelma Leenhouts at: Transitiontoteaching1@ed.gov. Applicants that fail to provide this e-mail notification may still apply for funding.

Page Limit: The application narrative (Part III of the application) is where you, the applicant, address the selection criteria that reviewers use to evaluate your application. Applicants must limit Part III to the equivalent of no more than 50 single-sided, double-spaced pages printed in 12 font type or larger.

The page limit does not apply to Part I, the cover sheet; Part II, the budget section, including the narrative budget justification; Part IV, the assurances and certifications; or the one-page abstract, curriculum vitae, or the bibliography of literature cited. However, you must include all of the application narrative in Part III.

Our reviewers will not read any pages of your application that—

• Exceed the page limit if you apply these standards; or

• Exceed the equivalent of the page limit if you apply other standards.

3. Submission Dates and Times:

Applications Available: April 30, 2004.

Deadline for Notice of Intent to Apply: May 14, 2004.

Deadline for Transmittal of Applications: June 14, 2004.

Note: We are requiring that applications for grants under this program be submitted electronically using the Electronic Grant Application System (e-Application) available through the Department's e-GRANTS system. For information about how to access the e-GRANTS system or to request a waiver of the electronic submission requirement, please refer to Section IV, item 6, Other Submission Requirements, in this notice.

The application package for this program specifies the hours of operation of the e-Application Web site. If you are requesting a waiver of the electronic submission requirement, the dates and times for the transmittal of applications by mail or by hand (including a courier service or commercial carrier) are also in the application package.

We do not consider an application that does not comply with the deadline requirements.

Deadline for Intergovernmental Review: August 13, 2004.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice and in the notice of final priorities and requirements for this program, published elsewhere in this issue of the Federal Register.

6. Other Submission Requirements: Additional information concerning application content requirements is in the notice of final priorities and requirements, published elsewhere in this issue of the Federal Register.

Instructions and requirements for the transmittal of applications by mail or by hand (including a courier service or commercial carrier) are in the application package for this competition.

Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under Transition to Teaching—CFDA Number 84.350A, 84.350B, and 84.350C be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Thelma Leenhouts, U.S. Department of Education, 400 Maryland Avenue, SW., room 3C102, Washington, DC 20202-5942. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications

We are continuing to expand our pilot project for electronic submission of applications to include additional formula grant programs and additional discretionary grant competitions. Transition to Teaching—CFDA Number 84.350A, 84.350B, and 84.350C is one of the programs included in the pilot project. If you are an applicant under Transition to Teaching, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC, time, on the application deadline date; or

(b) The e-Application system is unavailable for any period of time during the last hour of operation (that is, for any period of time between 3:30 p.m. and 4:30 p.m., Washington, DC, time) on the application deadline date.

We must acknowledge and confirm these periods of unavailability before granting you an extension. To request this extension or to confirm our acknowledgement of any system unavailability, you may contact either (1) the persons listed elsewhere in this notice under For Further Information Contact (see VII. Agency Contacts) or (2) the e-GRANTS help desk at 1-888-336-8930.

You may access the electronic grant application for Transition to Teaching at: http://e-grants.ed.gov.

V. Application Review Information

1. Selection Criteria: The selection criteria for this competition are as follows. These criteria are from the statute for this program and § 75.210 of EDGAR. The maximum score for all the selection criteria is 100 points. The maximum score for each criterion is indicated in parentheses. Each criterion also includes the factors that the reviewers will consider in determining how well an application meets the criterion.

The “Notes” we have included after each criterion are guidance to help applicants in preparing their applications and are not required by statute or regulation.

A. Quality of the Project Design (40 points)

The Secretary considers the quality of the project design for the proposed project by considering how well the applicant describes a plan—

(1) To develop a program to recruit and retain highly qualified mid-career professionals (including highly qualified paraprofessionals) and recent graduates of an institution of higher education as highly qualified teachers in high-need schools operated by high-need LEAs and

(2) To enable individuals to become eligible for teacher certification under State-approved programs within a reduced period of time, relying on factors in lieu of traditional course work in education.

In determining the above, the Secretary considers the following factors:

a. The extent to which the goals, objectives, and outcomes to be achieved by the proposed project are clearly specified and measurable.

b. The extent to which the design of the proposed project reflects up-to-date knowledge from research and effective practice.

c. The extent to which the design of the proposed project is appropriate to, and will successfully address, the needs of the target population or other identified needs.

d. The extent to which the proposed project is part of a comprehensive effort to improve teaching and learning and support rigorous academic standards for students.

Note: The Secretary encourages applicants to address this criterion by discussing the overall project model, including: recruitment and selection strategies; accelerated training program; integration of coursework and field experience; delivery system for training and support; role of partners; mentoring and support system; tracking of teacher placement; and timeline for full certification.

B. Significance of the Project (25 Points)

The Secretary considers the significance of the proposed project. In determining the significance of the proposed project, the Secretary considers the following factors:

1. The extent to which the proposed project involves the development or demonstration of promising new strategies that build on, or are alternatives to, existing strategies.

2. The importance or magnitude of the results or outcomes likely to be attained by the proposed project.

Note: The Secretary encourages applicants to address this criterion by discussing how the project will lower the barriers to teacher certification for eligible participant groups while setting high standards for selecting from among these groups the most talented and qualified individuals. The Secretary also encourages the applicant to describe the ways in which their efforts will help the States and/or high-need LEAs to be served by the project meet their clearly identified teacher quality challenges.

C. Quality of the Management Plan (15 Points)

The Secretary considers the quality of the management plan for the proposed project. In determining the quality of the management plan for the proposed project, the Secretary considers the following factors:

1. The adequacy of the management plan to achieve the objectives of the proposed project on time and within budget, including clearly defined responsibilities, timelines, and milestones for accomplishing project tasks.

2. The extent to which the time commitments of the project director and principal investigator and other key project personnel are appropriate and adequate to meet the objectives of the proposed project.

D. Quality of the Project Evaluation (20 Points)

The Secretary considers the quality of the evaluation to be conducted of the proposed project. In determining the quality of the evaluation, the Secretary considers the extent to which the methods of evaluation include the use of objective performance measures that are clearly related to the intended outcomes of the project and will produce quantitative and qualitative data to the extent possible.

Note: The Secretary encourages applicants to address this criterion by including benchmarks to monitor progress toward specific project objectives and also outcome measures to assess the impact on teaching and learning or other important outcomes for project participants. (Specific performance measures established for the overall Transition to Teaching program are discussed elsewhere in this notice in Section VI. Award Administration, 4. Performance Measures.) The Secretary also encourages applicants to identify the individual and/or organization that has agreed to serve as evaluator for the project and describe the qualifications of that evaluator. Finally, applicants are encouraged to indicate: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information about both the success at the initial site or sites and effective strategies for replication in other settings. Applicants are encouraged to devote an appropriate level of resources to project evaluation.

2. Review and Selection Process: Additional information concerning our review and selection of grant applications in this competition are contained in the notice of final requirements and priorities for this program, published elsewhere in this issue of the Federal Register.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: The Secretary requires successful applicants to submit annual performance reports and, after the last year of the project, a final report. The annual performance report documents the grantee's yearly progress toward meeting expected programmatic outcomes. These outcomes must be based on measurable performance objectives including, but not limited to, the performance measures described in paragraph 4 of this section. These reports must evaluate—

(1) The grantee's progress in meeting the application's objectives;

(2) The project's effectiveness in meeting the purposes of the Transition to Teaching program; and

(3) The project's effect on specific LEAs the project serves.

Among other things, the Department uses the annual performance reports to determine whether a grantee has demonstrated substantial progress in meeting the goals and objectives (as described in its approved application), and thereby merits a continuation award (for years 2-5). See § 75.118 of EDGAR.

Grantees also will be required to submit a final performance report, due no later than 90 days after the end of the project period.

In addition, section 2314 of the ESEA requires grantees to submit to the Department and to the Congress interim and final evaluations at the end of the third and fifth years of the grant period, respectively. These evaluations must describe the extent to which high-need LEAs that received funds through the grant have met their goals relating to teacher recruitment and retention as described in the project application. Additional requirements pertaining to these reports are in the notice of final priorities and requirements for this program, published elsewhere in this issue of the Federal Register.

4. Performance Measures: The Secretary has established two performance indicators for assessing the effectiveness of the Transition to Teaching Program: (1) The percentage of new, highly qualified Transition to Teaching teachers who teach in high-need schools in high-need LEAs for at least three years and (2) the percentage of Transition to Teaching teachers who receive full State certification or licensure. We will track these indicators through the use of four performance measures. We will gather the data for these measures from the grantees.

Measure One: The percentage of all recruits who become highly qualified teachers and teach in high-need schools in high-need LEAs will increase.

Measure Two: The percentage of all recruits who become highly qualified mathematics or science teachers will increase.

Measure Three: The percentage of new, highly qualified Transition to Teaching teachers who teach in high-need schools in high-need LEAs for at least three years will increase.

Measure Four: The percentage of teachers receiving full certification/licensure will increase.

VII. Agency Contacts

FOR FURTHER INFORMATION CONTACT: Thelma Leenhouts, Beatriz Ceja, Amy Wooten, Margarita Melendez, Peggi Zelinko, or Bill Mattocks, U.S. Department of Education, 400 Maryland Avenue, SW., room 5E114, Washington, DC 20202. Telephone: (202) 260-0223 (Thelma Leenhouts); (202) 205-5009 (Beatriz Ceja); (202) 260-0464 (Amy Wooten); (202) 260-3548 (Margarita Melendez); (202) 260-2614 (Peggi Zelinko); or (202) 260-2826 (Bill Mattocks). By e-mail: transitiontoteaching1@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: April 27, 2004.
Nina S. Rees,
Deputy Under Secretary for Innovation and Improvement.

[FR Doc. 04-9853 Filed 4-29-04; 8:45 am]

BILLING CODE 4000-01-P